DEPARTMENT OF COMMERCE

National Oceanic and Atmospheric Administration

[Docket No. 040210050-4108-02; I.D. 031904B]

RIN 0648-AN16

2004 Atlantic Sea Scallop Research Set-Aside Program

AGENCY: National Marine Fisheries Service (NMFS), National Oceanic and Atmospheric Administration (NOAA), Commerce.

ACTION: Notice and request for proposals.

SUMMARY: NMFS announces that for fishing year 2004 the New England Fishery Management Council (Council) may set aside portions of the total allowable catch (TAC) and Days-at-Sea (DAS) allowance in the sea scallop fishery to be used for sea scallop research endeavors under a research set-aside (RSA) program. The RSA program provides a mechanism to fund research and compensate vessel owners through the sale of fish harvested under the research quota. Vessels participating in an approved research project may be authorized by the Northeast Regional Administrator, NMFS, to harvest and to land species in excess of any imposed trip limit or during fishery closures. Landings from such trips would be sold to generate funds that would help defray the costs associated with research projects. No Federal funds would be provided for research under this notification.

DATES: Proposals must be received by NMFS no later than 5 p.m. EST, May 17, 2004.

ADDRESSES: Proposals must be submitted to NMFS, Northeast Regional Office, One Blackburn Drive, Gloucester, MA 01930.

FOR FURTHER INFORMATION CONTACT: For a copy of the full funding opportunity announcement for this request for proposals and/or an application kit contact Sandra Stone or Andrew Applegate, New England Fishery Management Council, phone (978) 465-0492, or Peter Christopher (see ADDRESSES), by phone (978) 281-9288, fax (978) 281-9135, or email Peter.Christopher@noaa.gov. The text of the full funding opportunity announcement can also be accessed via NOAA's website at http://www.ofa.noaa.gov/amd/SOLINDEX.HTML.

SUPPLEMENTARY INFORMATION: NMFS announces that for fishing year 2004 the Council may set aside portions of the TAC and DAS allowance in the sea scallop fishery to be used for sea scallop research endeavors under a RSA program. The RSA program provides a mechanism to fund research and compensate vessel owners through the sale of fish harvested under the research quota. Vessels participating in an approved research project may be authorized by the Regional Administrator to harvest and to land species in excess of any imposed trip limit or during fishery closures. Landings from such trips would be sold to generate funds that would help defray the costs associated with research projects. No Federal funds would be provided for research under this notification.

Research proposals are, therefore, sought to utilize the two set-asides proposed in Amendment 10 to the Atlantic Sea Scallop FMP (69 FR 8915): (1) the research TAC set-aside for the Hudson Canyon area of 375,800 lb (170.5 mt), with a value of $1,525,748.00, presuming that scallops are valued at $4.06 per pound; and (2) the DAS set-aside for the open fishing areas of 233 DAS with an average catch rate of 1,550 lb/DAS. Given the estimated value of $4.06 per lb, the open area set-aside would be valued at approximately $1,466,269.00. Thus, if Amendment 10 is approved, the total value of the set-asides that would be available for scallop-related research would be $2,992,017.00 (51 percent from Hudson Canyon Area access, and 49 percent from the open area DAS set-aside). Researchers must specify the amount of set-aside (TAC or DAS, as appropriate) sought from each area.

The proposed rule for Amendment 10 was published at 69 FR 8915 on February 26, 2004, and public comment regarding the implementing regulations ended March 29, 2004. The final rule for Amendment 10 including the approved numbers will be published in the Federal Register. NOAA will also update the funding opportunity announcement to include the final numbers for the 2004 Atlantic Sea Scallop Research Set-Aside Program which can be accessed via NOAA's web site at: http://www.ofa.noaa.gov/amd/SOLINDEX.HTML .

There may be additional research set-aside available from the Groundfish Closed Areas, if the Joint Framework to the Northeast Multispecies FMP and Atlantic Sea Scallop FMP is approved and implemented. The proposed rule for the Joint Framework will be published in the Federal Register in near future for public comment. Researchers are urged to request set-aside from these areas (Groundfish Closed Areas) as well. The Joint Framework, if approved and implemented, would specify that the total TAC set-aside for scallop research from the Groundfish Closed Areas access program in the 2004 fishing year would be 322,272 lb (146.2 mt), an amount of scallops that would have an approximate value of $1,308,424.00. The Joint Framework, if approved and implemented, would specify that this set-aside would be applicable to research in Closed Area II (167,904 lb (76.16 mt) worth approximately $681,690) and the Nantucket Lightship Closed Area (154,368 lb (70 mt) worth approximately $626,734) . Researchers are instructed to clearly indicate in their proposals whether or not their research would be applicable to more than one area.

Background: Amendment 10 would continue a Scallop Area Access Program for the Hudson Canyon and includes provisions to allow access to portions of the Groundfish Closed Areas (subject to NMFS' approval of the Joint Framework to establish TACs and measures to minimize groundfish bycatch). Under the proposed area access program, limited access sea scallop vessels would be allowed to land scallops in excess of the proposed possession limit, or to take additional trips above those proposed in the program, and use the proceeds of the excess catch or additional trips to offset the costs of the research proposals submitted in response to this notice. The proposed access areas would remain open until one of four events triggered a closure: (a) The fishing year ends (February 28, 2005); (b) finfish catches exceed TACs established by the Joint Framework; (c) the vessels use all of the trips authorized under the access program; or (d), the fishing season, as established by the Joint Framework, ends.

In addition, Amendment 10 would expand the RSA program to all areas where scallop fishing occurs, including regular open fishing areas. Two percent of the total allowable DAS allocations would be set-aside for scallop related research activities, before determining annual fishing allocations for limited access scallop vessels. This pool of DAS would become available for authorized research projects, under which vessels may participate in scallop research programs and/or conduct trips to compensate for research expenses incurred. The vessel may be authorized to conduct additional trips of a specified duration that would not be counted against the vessel's annual DAS allocation, or DAS may be added to a vessel's annual DAS allocation as compensation. Research applicants must specify which method would apply, should their proposal be funded.

Vessels participating in an approved project, and fishing in the Sea Scallop Access Areas, would be authorized by the Regional Administrator to do one or more of the following: Take additional trips into the areas and/or to land scallops in excess of the proposed 18,000-lb (8,164.7-kg) possession limit; make a trip of specified duration without counting against the vessel's 2004 DAS allocation; or be allocated additional DAS which would be added to the vessel's 2004 DAS allocation.

Electronic Access: http://www.Grants.gov.

Funding Availability: No Federal funds are provided for research under this notification. The Federal Government may issue an Exempted Fishing Permit (EFP) or Letter of Acknowledgment (LOA), as applicable, which may provide special fishing privileges in response to research proposals selected under this program.

Statutory Authority: Issuing grants is consistent with sections 303(b)(11), 402(e), and 404 ) of the Magnuson-Stevens Fishery Conservation and Management Act, 16 U.S.C. 1853(b)(11), 16 U.S.C. 1881a(e), and 16 U.S.C. 1881c), respectively.

CFDA: 11.454, Unallied Management Projects

Eligibility: Eligible applicants are institutions of higher education, hospitals, other nonprofits, commercial organizations, individuals, State, local and Indian tribal governments. Federal agencies or institutions are not eligible to receive Federal assistance under this notice. Also, a person is not eligible to submit an application under this program if he/she is an employee of any Federal agency or a Regional Fishery Management Council. However, Council members who are not Federal employees may submit an application.

Cost Sharing Requirements: None.

Intergovernmental Review: Required, if applicable. Applications under this program are subject to Executive Order 12372, “Intergovernmental Review of Federal Programs.”

Limitation of Liability: In no event will NOAA or the Department of Commerce be responsible for proposal preparation costs if these programs are cancelled because of other agency priorities. Publication of this announcement does not oblige NOAA to award any specific project or to provide special fishing privileges.

National Environmental Policy Act (NEPA): NOAA must analyze the potential environmental impacts, as required by the NEPA, for applicant projects or proposals which are seeking NOAA federal assistance opportunities including special fishing privileges. Detailed information on NOAA compliance with NEPA can be found at the following NOAA NEPA website: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm.

Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of a NEPA document (e.g. an environmental assessment), if NOAA determines that an environmental analysis is required. Applicants will also be required to cooperate with NOAA in identifying and implementing feasible measures to reduce or avoid any identified adverse environmental impacts of their proposal. The failure to do so shall be grounds for the denial of an application.

Evaluation and Selection Procedures: NOAA published its first omnibus notice announcing the availability of grant funds for both projects and fellowships/scholarship/ internships for Fiscal Year 2004 in the Federal Register on June 30, 2003 (68 FR 38678). The evaluation criteria and selection procedures contained in the June 30, 2003, omnibus notice are applicable to this solicitation. For a copy of the June 30, 2003, omnibus notice please go to: http://www.ofa.noaa.gov/amd/SOLINDEX.HTML.

The Department of Commerce Pre-Award Notification Requirements for Grants and Cooperative Agreements: The Department of Commerce Pre-Award Notification Requirements for Grants and Cooperative Agreements contained in the Federal Register notice of October 1, 2001 (66 FR 49917), as amended by the Federal Register notice published on October 30, 2002 (67 FR 66109), are applicable to this solicitation.

Classification

Paperwork Reduction Act: This document contains collection-of-information requirements subject to the Paperwork Reduction Act (PRA). The use of Standard Forms 424 and 424A,424B, SF-LLL, and CD-346 has been approved by OMB under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866: This notice has been determined to be not significant for purposes of Executive Order 12866.

Executive Order 13132 (Federalism): It has been determined that this notice does not contain policies with Federalism implications as that term is defined in Executive Order 13132.

Administrative Procedure Act/ Regulatory Flexibility Act: Prior notice and an opportunity for public comments are not required by the Administrative Procedure Act or any other law for notices concerning grants, benefits, and contracts (5 U.S.C. section 553(a)(2)). Because notice and opportunity for comment are not required pursuant to 5 U.S.C. 553 or any other law, the analytical requirements of the Regulatory Flexibility Act (5 U.S.C. section 601 et seq) are inapplicable. Therefore, a regulatory flexibility analysis has not been prepared.

Dated: April 9, 2004.
William T. Hogarth,
Assistant Administrator for Fisheries, National Marine Fisheries Service.

[FR Doc. 04-8592 Filed 4-14-04; 8:45 am]

BILLING CODE 3510-22-S